DEPARTMENT OF HOMELAND SECURITY

Coast Guard

33 CFR Part 117

[Docket No. USCG-2018-0701]

Drawbridge Operation Regulation; Willamette River at Portland, OR

AGENCY: Coast Guard, DHS.

ACTION: Notice of deviation from drawbridge regulation.

SUMMARY: The Coast Guard has issued a temporary deviation from the operating schedule that governs two Multnomah County bridges: Morrison Bridge, mile 12.8, and Hawthorne Bridge, mile 13.1 crossing the Willamette River at Portland, OR. This deviation is necessary to accommodate the annual Providence Bridge Pedal event. The deviation allows the bridges to remain in the closed-to-navigation position.

DATES: This deviation is effective from 6 a.m. to 11 a.m. on August 12, 2018.

ADDRESSES: The docket for this deviation, USCG-2018-0701 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Multnomah County, the bridge owner, has requested a temporary deviation from the operating schedule for the Morrison Bridge, mile 12.8, and Hawthorne Bridge, mile 13.1, both crossing the Willamette River at Portland, OR. The requested deviation will accommodate the Providence Bridge Pedal event, an annual cycling and walking event across several Willamette River crossings. The vertical clearances for theses bridges in the closed-to-navigation position are 69 feet for the Morrison Bridge and 49 feet for the Hawthorne Bridge respectively, as measured against the vertical clearance above Columbia River Datum 0.0. The normal operating schedule for the subject bridges is 33 CFR 117.897. This deviation allows the Morrison Bridge and Hawthorne Bridge to remain in the closed-to-navigation position, from 6 a.m. to 11 a.m. on August 12, 2018.

Waterway usage on this part of the Willamette River includes vessels ranging from commercial tug and barge to small pleasure craft. Vessels able to pass through the subject bridges in the closed-to-navigation position may do so at any time. The bridges will be able to open for emergencies, and there is no immediate alternate route for vessels to pass. The Coast Guard has conducted public outreach regarding this temporary deviation to known mariners that transit this part of the river. The Coast Guard has not received any objections to this temporary deviation from the operating schedule. The Coast Guard will inform the users of the waterway, through our Local and Broadcast Notices to Mariners, of the change in operating schedule for the bridges so that vessels can arrange their transits to minimize any impact caused by the temporary deviation.

In accordance with 33 CFR 117.35(e), the drawbridges must return to their regular operating schedules immediately at the end of the effective period of this temporary deviation. This deviation from the operating regulations is authorized under 33 CFR 117.35.

Dated: July 23, 2018.
Steven M. Fischer,
Bridge Administrator, Thirteenth Coast Guard District.

[FR Doc. 2018-16068 Filed 7-26-18; 8:45 am]

BILLING CODE 9110-04-P